DEPARTMENT OF COMMERCE

Foreign-Trade Zones Board

[B-19-2015]

Notification of Proposed Production Activity, Polaris Industries, Inc., Subzone 167B (Spark-Ignition Internal Combustion Engines); Osceola, Wisconsin

Polaris Industries, Inc. (Polaris), operator of Subzone 167B, submitted a notification of proposed production activity to the FTZ Board for its facility located in Osceola, Wisconsin. The notification conforming to the requirements of the regulations of the FTZ Board (15 CFR 400.22) was received on March 30, 2015.

Polaris already has authority to produce spark-ignition internal combustion engines (up to 1,050 cc's) for snowmobiles, personal watercraft and all-terrain vehicles, as well as authority to produce engines for motorcycles. The current request would add certain foreign-status components to the scope of authority. Pursuant to 15 CFR 400.14(b), additional FTZ authority would be limited to the specific foreign-status components and specific finished products described in the submitted notification (as described below) and subsequently authorized by the FTZ Board.

Production under FTZ procedures could exempt Polaris from customs duty payments on the foreign status components used in export production. On its domestic sales, Polaris would be able to choose the duty rate during customs entry procedures that applies to spark-ignition internal combustion engines (free) for the foreign status components and materials noted below and in the existing scope of authority.

Customs duties also could possibly be deferred or reduced on foreign status production equipment.

The components sourced from abroad include: Steel pins; input shafts; cylinder heads; cannonball heads; spring retainers; shift forks; compensators; pulleys; gears; metal gaskets; voltage regulators; position crank sensors; engine control units and bases; wiring harnesses; roller followers; gears for engines; shafts for engines; sleeves; sliders; counter shafts; shift forks; main shafts; output shafts; ratchet shifters; retainers; shift drums; pinions; water temperature sensors; and, thermostats (duty rate ranges from free to 2.8%).

Public comment is invited from interested parties. Submissions shall be addressed to the FTZ Board's Executive Secretary at the address below. The closing period for their receipt is May 20, 2015.

A copy of the notification will be available for public inspection at the Office of the Executive Secretary, Foreign-Trade Zones Board, Room 21013, U.S. Department of Commerce, 1401 Constitution Avenue NW., Washington, DC 20230-0002, and in the “Reading Room” section of the FTZ Board's Web site, which is accessible via www.trade.gov/ftz.

For further information, contact Pierre Duy at Pierre.Duy@trade.gov (202) 482-1378.

Dated: April 3, 2015.
Andrew McGilvray,
Executive Secretary.

[FR Doc. 2015-08333 Filed 4-9-15; 8:45 am]

BILLING CODE 3510-DS-P